DEPARTMENT OF LABOR

Employment and Training Administration

[TA-W-56,088]

Maytag Corporation, Now Known as Whirlpool Corporation, Newton Laundry Products Division, Newton, IA; Amended Certification Regarding Eligibility To Apply for Worker Adjustment Assistance

In accordance with Section 223 of the Trade Act of 1974 (19 U.S.C. 2273), the Department of Labor issued a Certification of Eligibility to Apply for Worker Adjustment Assistance on December 23, 2004, applicable to workers of Maytag Corporation, Newton Laundry Products Division, Newton, Iowa. The notice was published in the Federal Register on January 24, 2005 (70 FR 3391).

At the request of State agency, the Department reviewed the certification for workers of the subject firm. The workers are engaged in the production of laundry washers and dryers.

New information provided by the company shows that Maytag Corporation, Newton Laundry Products Division, became known as Whirlpool Corporation, Newton Laundry Products Division following a merger in April 2006. Workers separated from employment at the subject firm had their wages reported under a separate unemployment insurance (UI) tax accounts for Whirlpool Corporation, Newton Laundry Products Division.

Accordingly, the Department is amending this certification to properly reflect this matter.

The intent of the Department's certification is to include all workers of Maytag Corporation, Newton Laundry Products Division, now known as Whirlpool Corporation, Newton Laundry Products Division who was adversely affected by increased customer imports.

The amended notice applicable to TA-W-56,088 is hereby issued as follows:

All workers of Maytag Corporation, Newton Laundry Products, now known as Whirlpool Corporation, Newton Laundry Products, Newton, Iowa, who became totally or partially separated from employment on or after November 22, 2003 through December 23, 2006, are eligible to apply for adjustment assistance under Section 223 of the Trade Act of 1974.

Signed at Washington, DC this 20th day of April 2006.
Richard Church,
Certifying Officer, Division of Trade Adjustment Assistance.

[FR Doc. E6-6813 Filed 5-4-06; 8:45 am]

BILLING CODE 4510-30-P